DEPARTMENT OF TRANSPORTATION

Federal Aviation Administration

Informal Airspace Workshop; Air Traffic Control Airspace and Procedures Revisions for Anchorage Terminal Area, Anchorage, AK

AGENCY: Federal Aviation Administration (FAA), DOT.

ACTION: Notice of public workshop.

SUMMARY: The FAA intends to hold an informal airspace workshop to solicit comments regarding operational and environmental concerns from airspace users and others concerning traffic flows for aircraft operating to, from, and in the vicinity of Ted Stevens Anchorage International Airport, Lake Hood Seaplane Base, Merrill Field, Elmendorf AFB, and various non-towered airports in the Anchorage area. The purpose of this workshop is to (1) provide interested parties an opportunity to comment on proposed revisions to Visual Flight Rules (VFR) routes/corridors in the Anchorage area and (2) gather input for consideration in the development of revised air traffic control procedures to accommodate the increase in aircraft operations and improve aviation safety in the airspace surrounding Anchorage, Alaska. Alternatives developed as a result of this and other meetings may involve changes to existing regulatory airspace.

Date/Time: The workshop will from 5:30 PM to 9:30 PM, Tuesday, April 17, 2001.

Place: Multi-Purpose Room, Spenard Community Recreation Center, 2020 West 48th Avenue, Anchorage, Alaska.

Public Comments: The FAA actively solicits public comments. Comments may be presented at the workshop or submitted afterwards via letter, fax, or email. Comments should be received on or before May 18, 2001 to be included as part of the workshop.

FOR FURTHER INFORMATION CONTACT: Jack Schommer, Operations Branch, AAL-532, Federal Aviation Administration, 222 West 7th Avenue, Box 14, Anchorage, AK 99513-7587; telephone number (907) 271-5903; fax: (907) 271-2850; email: jack.schommer@faa.gov. Internet address: http://www.alaska.faa.gov/at. The Spenard Community Recreation Center telephone number is (907) 343-4160.

SUPPLEMENTARY INFORMATION:

History and Background

Aircraft operations in the Anchorage area have increased 21% for the period from January 1, 1996, to December 31, 2000, and are projected to increase at an approximate rate of 5% annually through the year 2020. Changes to existing air traffic routes and air traffic control procedures used in the Anchorage area are necessary in order to continue to provide safe and efficient air traffic control service to airspace users.

Workshop Agenda

This workshop is intended to be the first in a series of meetings designed to involve the community in our decision making process. The workshop will be set up in an open house fashion with multiple stations attended by FAA representatives. These stations are intended to provide information and collect comments in two specific areas.

1. The FAA proposes to make changes to the current VFR route structure and is seeking comments from the user community and general public concerning operational and environmental impacts of the proposal.

2. The FAA recognizes the need to change IFR and VFR traffic flows and procedures to accommodate the increases in air traffic operations within the Anchorage area and is seeking comments regarding operational and environmental concerns from interested parties that can be used in the formulation of potential alternatives.

Workshop Procedures

(a) The workshop will be informal in nature and will be conducted by representatives of the FAA Alaskan Region.

(b) The workshop will be open to all persons on a space-available basis. Every effort was made to provide a workshop site with sufficient capacity for expected participation. There will be no admission fee nor other charges to attend and participate.

(c) Representatives of Ted Stevens Anchorage International Airport Traffic Control Tower, Merrill Field Airport Traffic Control Tower, Anchorage Terminal Radar Approach Control and Anchorage Air Route Traffic Control Center will be present to discuss procedural concepts. FAA Air Traffic Division representatives will be present to discuss environmental concerns.

(d) Any person who wishes to submit a position paper to FAA representatives pertinent to the revision of ATC airspace or procedures may do so.

(e) The workshop will not be formally recorded. However, informal tape recordings may be made to ensure that each respondent's comments are noted accurately.

(f) An official verbatim transcript or minutes of the informal airspace workshop will not be made. However, a list of the attendees, written statements received from attendees during and after the workshop and a digest of discussions during the workshop will be included in the administrative record for the project.

(g) Every reasonable effort will be made to hear the concerns of interested persons consistent with a reasonable closing time for the workshop.

Issued in Anchorage, AK, on February 28, 2001.
Stephen P. Creamer,
Assistant Manager, Air Traffic Division, Alaskan Region.

[FR Doc. 01-5605 Filed 3-7-01; 8:45 am]

BILLING CODE 4910-13-M